FEDERAL COMMUNICATIONS COMMISSION

47 CFR Part 2

[ET Docket No. 98-206; FCC 00-418]

Fixed Satellite Service and Terrestrial System in the Ku-Band; Correction

AGENCY: Federal Communications Commission.

ACTION: Final rule; correction.

SUMMARY: On February 16, 2001 (66 FR 10601), the Commission published final rules in the Report and Order, which permits non-geostationary satellite orbit and fixed-satellite service providers to operate in certain segments of the Ku-band. This document contains correction to that rule.

DATES: Effective March 19, 2001.

FOR FURTHER INFORMATION CONTACT: Tom Derenge, Office of Engineering and Technology, (202) 418-2451.

SUPPLEMENTARY INFORMATION: The Federal Communications Commission published a document amending part 2 in the Federal Register of February 16, 2001 (66 FR 10601). This document corrects the Federal Register as it appeared. In rule FR Doc. 01-3710 published on February 16, 2001 (66 FR 10601), the Commission is correcting the table in United States (US) Footnote for US 355 to reflect the correct “degree (°), minute (′) , and second (″)” symbols.

In rule FR Doc. 01-3170 published on February 16, 2001 (66 FR 10601), make the following correction:

§ 2.106 [Corrected]

1. On page 10619, in § 2.106, the table in US355 is corrected to read as follows:

§ 2.106 Table of Frequency Allocations.

* * * * *

United States (US) Footnotes

* * * * *

US355 * * *

Observatory | West longitude | North latitude | Elevation
Arecibo Obs | 66°45′11″ | 18°20′46″ | 496 m
Green Bank Telescope (GBT) | 79°50′24″ | 38°25′59″ | 825 m
Very Large Array (VLA) | 107°37′04″ | 34°04′44″ | 2126 m
Very Long Baseline Array (VLBA) Stations:
Pie Town, NM | 108°07′07″ | 34°18′04″ | 2371 m
Kitt Peak, AZ | 111°36′42″ | 31°57′22″ | 1916 m
Los Alamos, NM | 106°14′42″ | 35°46′30″ | 1967 m
Ft. Davis, TX | 103°56′39″ | 30°38′06″ | 1615 m
N. Liberty, IA | 91°34′26″ | 41°46′17″ | 241 m
Brewster, WA | 119°40′55″ | 48°07′53″ | 255 m
Owens Valley, CA | 118°16′34″ | 37°13′54″ | 1207 m
St. Croix, VI | 64°35′03″ | 17°45′31″ | 16 m
Hancock, NH | 71°59′12″ | 42°56′01″ | 309 m
Mauna Kea, HI | 155°27′29″ | 19°48′16″ | 3720 m

* * * * *

Federal Communications Commission.
Magalie Roman Salas,
Secretary.

[FR Doc. 01-6410 Filed 3-19-01; 8:45 am]

BILLING CODE 6712-01-U